DEPARTMENT OF AGRICULTURE

Food Safety and Inspection Service

[Docket No. FSIS-2012-0002]

Codex Alimentarius Commission: Meeting of the Codex Committee on Contaminants in Food

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services, are sponsoring a public meeting on February 23, 2012. The objective of the public meeting is to provide information and receive public comments on agenda items and draft United States (U.S.) positions that will be discussed at the 6th Session of the Codex Committee on Contaminants in Food (CCCF) of the Codex Alimentarius Commission (Codex), which will be held in Maastricht, The Netherlands, March 26-30, 2012. The Under Secretary for Food Safety and FDA recognize the importance of providing interested parties the opportunity to obtain background information on the 6th Session of the CCCF and to address items on the agenda.

DATES: The public meeting is scheduled for Thursday, February 23, 2012, from 1 p.m. to 3 p.m.

ADDRESSES: The public meeting will be held at the Harvey W. Wiley Federal Building, Room 3B-047, FDA, Center for Food Safety and Applied Nutrition (CFSAN), 5100 Paint Branch Parkway, College Park, MD 20740. Documents related to the 6th Session of the CCCF will be accessible via the World Wide web at http://www.codexalimentarius.org.

Nega Beru, U.S. Delegate to the 6th Session of the CCCF, invites interested U.S. parties to submit their comments electronically to the following email address henry.kim@fda.hhs.gov.

Registration: Attendees may register electronically at the same email address provided above by February 18, 2012. The meeting will be held in a Federal building; therefore, early registration is encouraged as it will expedite entry into the building and its parking area. You should also bring photo identification and plan for adequate time to pass through security screening systems. If you require parking, please include the vehicle make and tag number when you register. Attendees that are not able to attend the meeting in-person but wish to participate may do so by phone.

Call-In Number: If you wish to participate in the public meeting for the 6th Session of the CCCF by conference call, please use the call-in number and participant code listed below.

Call-in Number: 1-(888) 858-2144.

Participant Code: 6208658.

For Further Information About the 6th Session of the CCCF Contact: Henry Kim, Ph.D., Office of Food Safety, CFSAN/FDA, HFS-317, 5100 Paint Branch Parkway, College Park, MD 20740, telephone: (240) 402-2023, fax: (301) 436-2651, email: henry.kim@fda.hhs.gov.

For Further Information About the Public Meeting Contact: Henry Kim, Ph.D., Office of Food Safety, CFSAN/FDA, HFS-317, 5100 Paint Branch Parkway, College Park, MD 20740, telephone: (301) 436-2023, fax: (301) 436-2651, email: henry.kim@fda.hhs.gov.

SUPPLEMENTARY INFORMATION:

Background

Codex was established in 1963 by two United Nations organizations, the Food and Agriculture Organization (FAO) and the World Health Organization (WHO). Through adoption of food standards, codes of practice, and other guidelines developed by its committees, and by promoting adoption and implementation by governments, Codex seeks to protect the health of consumers and ensure that fair practices are used in the food trade.

The CCCF establishes or endorses permitted maximum levels, and where necessary revises existing guideline levels for contaminants and naturally occurring toxicants in food and feed; prepares priority lists of contaminants and naturally occurring toxicants for risk assessment by the Joint FAO/WHO Expert Committee on Food Additives (JECFA); considers and elaborates methods of analysis and sampling for the determination of contaminants and naturally occurring toxicants in food and feed; considers and elaborates standards or codes of practice for related subjects; and considers other matters assigned to it by Codex in relation to contaminants and naturally occurring toxicants in food and feed.

The Committee is chaired by The Netherlands.

Issues To Be Discussed at the Public Meeting

The following items on the agenda for the 6th Session of the CCCF will be discussed during the public meeting:

• Matters Referred to the CCCF by Codex and other Codex Committees/Task Forces.

• Revision of the Risk Analysis Principles Applied by the Codex Committee on Food Additives (CCFA) and the CCCF as to Their Separation from the CCFA and Their Applicability to Feed.

• Revision of the Code of Practice for Source Directed Measures to Reduce Contamination of Food with Chemicals as to Their Applicability to Feed.

• Matters of Interest Arising from FAO and WHO (including JECFA).

• Matters of Interest Arising from other International Organizations—International Atomic Energy Agency (IAEA).

• Draft Maximum Levels for Melamine in Food (liquid infant formula).

• Proposed Draft Maximum Levels for Arsenic in Rice.

• Proposed Draft Maximum Levels for Deoxynivalenol (DON) and its Acetylated Derivatives in Cereals and Cereal-Based Products.

• Proposed Draft Maximum Levels for Total Aflatoxins in Dried Figs including Sampling Plans.

• Editorial Amendments to the General Standard for Contaminants and Toxins in Foods and Feeds (GSCTFF).

• Discussion Paper on Pyrrolizidine Alkaloids in Food and Feed.

• Discussion Paper on Maximum Levels for Lead in Various Foods in the General Standard for Contaminants and Toxins in Food and Feed and the Related Code of Practice for the Prevention and Reduction of Lead Contamination in Foods and the Code of Practice for Source Directed Measure to Reduce Contamination of Foods with Chemicals.

• Discussion Paper on Mycotoxins in Sorghum.

• Discussion Paper on Ochratoxin A in Cocoa.

• Discussion Paper on Guidance for Risk Management Options in Light of Different Risk Assessment Options.

• Priority List of Contaminants and Naturally Occurring Toxicants Proposed for Evaluation by the JECFA.

Each issue listed will be fully described in documents distributed, or to be distributed, by the Secretariat prior to the meeting. Members of the public may access copies of these documents (see ADDRESSES).

Public Meeting

At the February 23, 2012, public meeting, draft U.S. positions on the agenda items will be described and discussed, and attendees will have the opportunity to pose questions and offer comments. Written comments may be offered at the meeting or sent to Dr. Henry Kim for the 6th Session of the CCCF (see ADDRESSES). Written comments should state that they relate to activities of the 6th Session of the CCCF.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/.

Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status (Not all prohibited bases apply to all programs).

Persons with disabilities who require alternative means for communication of program information (Braille, large print, and audiotape) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC on: January 27, 2012.
Doreen Chen-Moulec,
U.S. office for Codex Alimentarius.

[FR Doc. 2012-2439 Filed 2-2-12; 8:45 am]

BILLING CODE 3410-DM-P